DEPARTMENT OF COMMERCE

Foreign-Trade Zones Board

[Order No. 2144]

Establishment of a Foreign-Trade Zone Under the Alternative Site Framework in Western North Carolina

Pursuant to its authority under the Foreign-Trade Zones Act of June 18, 1934, as amended (19 U.S.C. 81a-81u), the Foreign-Trade Zones Board (the Board) adopts the following Order:

Whereas, the Foreign-Trade Zones (FTZ) Act provides for “. . . the establishment . . . of foreign-trade zones in ports of entry of the United States, to expedite and encourage foreign commerce, and for other purposes,” and authorizes the Foreign-Trade Zones Board to grant to qualified corporations the privilege of establishing foreign-trade zones in or adjacent to U.S. Customs and Border Protection ports of entry;

Whereas, the Board adopted the alternative site framework (ASF) (15 CFR 400.2(c)) as an option for the establishment or reorganization of zones;

Whereas, the Land of Sky Regional Council (the Grantee), a state agency, made application to the Board (B-36-2022, docketed August 17, 2022 and amended January 6, 2023) requesting the establishment of a foreign-trade zone under the ASF with a service area of Henderson County as well as portions of Buncombe, Haywood, Jackson and Transylvania Counties, North Carolina, adjacent to the Greenville-Spartanburg U.S. Customs and Border Protection port of entry, and proposed Subzone 301A would be categorized as an ASF subzone;

Whereas, notice inviting public comment was given in the Federal Register (87 FR 51651-51652, August 23, 2022) and the amended application was processed pursuant to the FTZ Act and the Board's regulations; and,

Whereas, the Board adopted the findings and recommendations of the examiners' report, and found that the requirements of the FTZ Act and the Board's regulations are satisfied;

Therefore, on June 12, 2023, the Board granted to the Grantee the privilege of establishing a foreign-trade zone, designated on the records of the Board as Foreign-Trade Zone No. 301, as described in the application, and subject to the FTZ Act and the Board's regulations, including Section 400.13, to the Board's standard 2,000-acre activation limit, and to an ASF sunset provision for subzones that would terminate authority for Subzone 301A if no foreign non-duty paid merchandise is admitted to the subzone for a bona fide customs purpose three years from the month of approval.

Dated: June 12, 2023.
Lisa W. Wang,
Assistant Secretary of Commerce for Enforcement and Compliance, Alternate Chairman, Foreign-Trade Zones Board.

[FR Doc. 2023-12897 Filed 6-15-23; 8:45 am]

BILLING CODE 3510-DS-P